DEPARTMENT OF THE INTERIOR

Bureau of Land Management

[OR-056-1220-AA-GP-03-0127]

Final Special Rules for Public Lands Along the Deschutes Wild & Scenic River Corridor, Deschutes Resource Area, Prineville District, OR

AGENCY: Bureau of Land Management, Interior.

ACTION: Final special rules.

SUMMARY: The Bureau of Land Management's (BLM) Deschutes Resource Area is revising its special rules for the Lower Deschutes National Wild and Scenic River corridor in Oregon. The special rules are necessary to protect the river's natural resources and the public health and safety. The revisions in the special rules are needed to resolve inconsistencies between them and rules of the State of Oregon.

EFFECTIVE DATE: April 29, 2004.

ADDRESSES: You may send inquiries or suggestions to the following addresses:

Mail or personal delivery: Bureau of Land Management, Deschutes Resource Field Manager, Prineville District Office, 3050 NE Third, Prineville, OR 97754.

FOR FURTHER INFORMATION CONTACT: Robert Towne, Field Manager for the Deschutes Resource Area, at (541) 416-6700. Persons who use a telecommunications device for the deaf (TDD) may contact this individual by calling the Federal Information Relay Service (FIRS) at (800) 877-8339, 24 hours a day, 7 days a week.

SUPPLEMENTARY INFORMATION:

I. Area Description

II. Background

III. Discussion of Special Rules

IV. Procedural Matters

I. Area Description

Public lands and waters within the Lower Deschutes River Final National Wild and Scenic River Boundary, as it appears in the Lower Deschutes River Management Plan and Environmental Impact Statement, volume 1, published January 1993 by BLM (this document contains a complete legal description; copies available from the BLM Prineville District Office). This area is more generally described as approximately ¼ mile from either side of the Lower Deschutes River, commencing at Pelton Reregulation Dam and extending downstream to the Columbia River.

II. Background

In 1970, the lower 100 miles of the Deschutes River were designated as an Oregon State Scenic Waterway. In 1988, the U.S. Congress designated this same 100 mile river segment as a National Wild and Scenic River. Through a management plan approved in 1993, this area is collectively managed by the Bureau of Land Management, the Bureau of Indian Affairs/Confederated Tribes of the Warm Springs, and the State of Oregon. In 1994, pursuant to the management plan, separate rules for public use were created by the State of Oregon in the form of Oregon Administrative Rules and by BLM in the form of Special Rules under 43 CFR 8351.2.

Both the state and BLM developed rules independently and in many particulars they proved inconsistent with each other. Since inception, both state and Federal rules have undergone multiple revisions to accommodate changing management needs and objectives. The final special rules revise the existing Federal rules to match state rules, create new rules to meet current management objectives, and combine all the Federal rules, including past revisions, into one document.

The special rules govern conduct on all public lands and waters managed by BLM within the river corridor described in the notice. The rules are needed to protect the river's natural resources and the public health and safety.

III. Discussion of Special Rules

BLM has determined these special rules are necessary to protect the river's resources and to provide for safe public recreation, public health, and data collection. The objective is to provide a quality recreational experience to the general public with minimal user conflicts and minimum damage to the public lands and resources.

In addition, these rules are in accordance with the Lower Deschutes River Management Plan and Environmental Impact Statement, dated January 1993.

Exemptions to these rules apply to cooperating agency personnel for administrative purposes, including but not limited to monitoring, research, law enforcement, search and rescue, and fire fighting operations. Exemptions may also be allowed on a case-by-case basis by BLM.

During the public comment period on the proposed special rules, BLM received no public comments. Therefore, we are publishing these final special rules as they were proposed, with a few editorial changes to correct grammar and improve clarity.

IV. Procedural Matters

The principal author of these special rules is Tom Teaford of the Prineville District Office, BLM.

Regulatory Planning and Review (E.O. 12866)

These special rules are not significant and are not subject to review by the Office of Management and Budget under Executive Order 12866.

(1) These special rules will not have an effect of $100 million or more on the economy. They will not adversely affect in a material way the economy, productivity, competition, jobs, the environment, public health or safety, or state, local, or tribal governments or communities.

(2) These special rules will not create a serious inconsistency or otherwise interfere with an action taken or planned by another agency.

(3) These special rules do not alter the budgetary effects or entitlements, grants, user fees, or loan programs or the rights or obligations of their recipients.

(4) These special rules do not raise novel legal or policy issues.

The special rules do not affect legal commercial activity, but contain rules of conduct for public use of a limited selection of public lands.

Regulatory Flexibility Act

The Department of the Interior certifies that these special rules will not have a significant economic effect on a substantial number of small entities under the Regulatory Flexibility Act (5 U.S.C. 601 et seq.). The special rules do not affect legal commercial activity, but govern conduct for public use of a limited selection of public lands.

Small Business Regulatory Enforcement Fairness Act (SBREFA)

These special rules are not major under 5 U.S.C. 804(2), the Small Business Regulatory Enforcement Fairness Act. These special rules:

Do not have an annual effect on the economy of $100 million or more. (See the discussion under Regulatory Planning and Review, above.)

Will not cause a major increase in costs or prices for consumers, individual industries, Federal, state, or local government agencies, or geographic regions. See the discussion above under Regulatory Flexibility Act.

Do not have significant adverse effects on competition, employment, investment, productivity, innovation, or the ability of U.S.-based enterprises to compete with foreign-based enterprises.

Unfunded Mandates Reform Act

These special rules do not impose an unfunded mandate on state, local, or tribal governments or the private sector of more than $100 million per year. The special rules do not have a significant or unique effect on state, local, or tribal governments or the private sector. The special rules will have no effect on governmental or tribal entities. A statement containing the information required by the Unfunded Mandates Reform Act (2 U.S.C. 1531 et seq.) is not required.

Takings (E.O. 12630)

In accordance with Executive Order 12630, the special rules do not have significant takings implications. The enforcement provision in the proposed special rules do not include any language requiring or authorizing forfeiture of personal property or any property rights. E.O. 12630 addresses concerns based on the Fifth Amendment dealing with private property taken for public use without compensation. The lands covered by the special rules are public land managed by the Bureau of Land Management; therefore no private property is affected. A takings implications assessment is not required.

Federalism (E.O. 13132)

In accordance with Executive Order 13132, BLM finds that the special rules do not have sufficient federalism implications to warrant the preparation of a federalism summary impact statement. The special rules do not have substantial direct effects on the states, on the relationship between the national government and the states, or on the distribution of power and responsibilities among the various levels of government. The special rules do not preempt state law.

Civil Justice Reform (E.O. 12988)

In accordance with Executive Order 12988, the Office of the Solicitor has determined that these special rules do not unduly burden the judicial system, and that they meet the requirements of sections 3(a) and 3(b)(2) of the Order.

Consultation and Coordination With Indian Tribal Governments (E.O. 13175)

In accordance with Executive Order 13175, we have found that these final special rules do not include policies that have tribal implications. The special rules do not affect lands held for the benefit of Indians, Aleuts, and Eskimos.

Paperwork Reduction Act

These special rules do not contain information collection requirements that the Office of Management and Budget must approve under the Paperwork Reduction Act, 44 U.S.C. 3501 et seq.

National Environmental Policy Act

These special rules were considered in the Lower Deschutes River Management Plan and Environmental Impact Statement, published in January 1993, which is on file and available to the public in the BLM Administrative Record at the address specified in the ADDRESSES section. The special rules themselves should not have a significant effect on the human environment. They are principally rules of conduct intended to protect human health and safety, to minimize environmental degradation, and to ensure that use of the river and associated facilities are properly authorized.

Authority

The authority for these special rules is found in 43 U.S.C. 1733 and 43 CFR 8351.2-1.

Special Rules for Lower Deschutes River Corridor

Under 43 CFR 8351.2-1, the Bureau of Land Management will enforce the following rules year around within the Lower Deschutes Wild and Scenic River corridor.

Sec. 1. Definitions

The following definitions will apply to the rules:

Approved portable toilet means any non-biodegradable, rigid, durable, container designed to receive and hold human waste, in any container position, without leaking, and equipped with a dumping system that allows the container to be emptied into a standard receiving or dump system designed for that purpose, such as a SCAT machine or recreational vehicle dump station, in a sanitary manner, without spills, seepage, or human exposure to human waste.

Boat means every watercraft or device used as a means of transport on the water.

Camping means erecting a tent or shelter of natural or synthetic material, preparing a sleeping bag or other bedding material for use, or parking a motor vehicle, trailer, or mooring a boat, for apparent overnight occupancy.

Designated campsite means a BLM-designated campsite, marked with a visible number mounted on a post or placard.

Developed area is a site or area that contains structures or capital improvements primarily used by the public for recreational purposes. This may include such features as: delineated spaces for parking, camping or boat launching; sanitary facilities; potable water, grills or fire rings; tables; or controlled access.

Developed toilet facility is a vault type toilet provided by the Bureau of Land Management or Oregon State Parks and Recreation Commission.

Display intent to remain overnight means any off-loading onto the riverbank, or preparing for use, common overnight camping equipment such as tents, sleeping bags or bedding, food, cooking or dining equipment, or lighting equipment, or to prepare common camping equipment for use in or on any boat.

Excessive noise is any noise which is unreasonable, considering the location, time of day, impact on river users, or other factors which govern the conduct of a reasonably prudent person under the circumstances.

Firearm means a weapon, by whatever name known, designed to expel a projectile by the action of powder and is readily capable of use as a weapon.

Fireworks means any combustible or explosive composition or substance or any combination of any such composition or substances or any other article prepared for the purpose of providing a visible or audible effect by combustion, explosion, deflagration or detonation, and includes blank cartridges, or toy cannons in which explosives are used, balloons which require fire underneath to propel the same, firecrackers, torpedoes, skyrockets, Roman candles, bombs, wheels, colored fires, fountains, mines, serpents, or any other article of like construction or any article containing any explosive or flammable compound or any tablets or other device containing any explosive substance or flammable compound.

Group means any number of persons affiliated together with a common goal to recreate with each other in activities such as rafting, eating, camping, or swimming.

Group size limit means the maximum number of persons a group may have while together within the river corridor, regardless of the number of persons covered by each boating pass possessed by members of the group. This limit is intended to avoid resource damage and social conflicts caused by large groups concentrating in small areas.

Highway means every public way, road, street, thoroughfare and place, including bridges, viaducts, and other structures within the boundaries of this state, open, used or intended for use of the general public for vehicles or vehicular traffic as a matter of right.

Motorboat means any boat propelled in whole or in part by machinery, including boats temporarily equipped with detachable motors.

Non-designated campsite means a campsite not designated by BLM and not marked with a visible number.

Obscene means objectionable or offensive to accepted standards of decency.

Refuse includes but is not limited to wastewater, sewage, litter, trash, garbage, scraps, remnants of water balloons or clay pigeons, or other useless or worthless parts of things.

Remain overnight means human presence in the Lower Deschutes River Corridor on a boat-in basis for any period of time from one hour after legal sunset to one hour before legal sunrise.

River corridor means those public lands located within the Final National Wild and Scenic River boundary as described in the Lower Deschutes River Management Plan and Environmental Impact Statement, Volume 1, January 1993.

Vessel means every watercraft or device used as a means of transport on the water except single inner tubes, air mattresses, and water toys.

Unoccupied means the absence of human presence between 10 p.m. and one hour before legal sunrise.

Sec 2. Prohibited Acts

The following are prohibited:

a. Camping

1. Camping outside of a designated campsite in river segments 1, 2, or 3.

2. Camping for a total period of more than 14 nights during any 28-night period. The 28-night period will begin the first night the site is occupied. The 14-night limit may be reached either through a number of separate visits or through a period of continuous occupation. Once the 14-night limit is reached in any camping area, the person(s) must move a distance of not less than 50 linear miles to continue camping on public lands.

3. Camping in one campsite by non-motorized boat longer than 4 consecutive nights.

4. At the end of a four-night camping stay as described in (a)(3) above, failing to remove all camping equipment and personal property and not relocating your camp within ¼ mile of the same site for a period of at least 14 nights.

5. Camping in one campsite by motorized boat longer than 9 consecutive nights between May 15 and October 15.

6. Between May 15 and October 15, whenever motorized boaters vacate a campsite and it will be unoccupied, failing to remove all camping and personal property from the area and not relocating within ¼ mile of the same site for a period of at least 14 days.

7. Camping on any river island.

8. Camping in any area posted as closed to camping.

9. Being present in any designated day-use area between 10 p.m. and one hour before sunrise.

10. Possessing or leaving refuse, debris, or litter in an exposed, unsightly, or unsanitary condition.

11. Leaving camping equipment, personal property, site alterations, or refuse after departing any campsite or in any vacant campsite.

12. Failing to pay camping fees within 30 minutes of occupying a fee campsite.

13. Installing permanent camping facilities.

14. Failing to meet the minimum or exceeding the maximum number of persons and/or vehicles allowed for a campsite.

15. Paying for or placing camping equipment or other personal property in/at/near a campsite, which is not to be occupied by that same person, for the purpose of holding or reserving the campsite site for later occupation by another person(s).

16. Moving any table, stove, barrier, litter receptacle, or other campground equipment.

17. Digging or leveling the ground at any campsite.

18. Failing to contain all group and personal equipment within a campsite.

b. Fires

1. Between June 1 and October 15:

i. Building, igniting, maintaining, using, tending, or being within 20 feet of: a campfire, charcoal fire, or any other type of open flame. Exception: You may use commercially manufactured metal camp stoves and shielded lanterns when fueled with bottled propane or liquid fuel and operated in a responsible manner.

ii. Smoking except in non-public buildings, closed vehicles, while in boats on the water, or while standing in the water.

2. Between October 16 and May 31:

i. Building, igniting, maintaining, using, tending, or being within 20 feet of: a campfire unless it is contained in a metal fire pan or similar metal container with sides measuring at least 2″ in height and prevents ashes or burning material from spilling onto the ground and is elevated above the ground.

ii. Exception: BLM-provided metal campfire rings may be used in lieu of a fire pan.

3. Leaving a fire unattended or without completely extinguishing it.

4. Burning or attempting to burn non-combustible items such as tin, aluminum, or glass.

5. Discarding lighted or smoldering material, or lighting, tending, or using a fire, stove or lantern in such a manner that threatens, causes damage to, or results in the burning of property or resources, or creates a public safety hazard.

6. Using or possessing fireworks.

7. Failing to observe any fire prevention order or regulation issued by the Bureau of Land Management.

8. Gathering or burning any living, dead, or down vegetation gathered within the river corridor.

c. Sanitation and Refuse

1. For members of overnight boating groups that remain, intend to remain, or display intent to remain overnight within the river corridor, failing to carry an approved portable toilet. Except: This requirement shall not apply to overnight kayak trips entirely self-contained (not supported by a gear boat) or overnight hikers or bikers.

2. When boating within the river corridor on an overnight basis, failing to use either an approved portable toilet or developed toilet facility for all solid human waste. Exception: This requirement shall not apply to overnight kayak trips entirely self-contained, or overnight hikers or bikers.

3. For all persons who remain, intend to remain, or display intent to remain overnight, failing to set up an approved portable toilet, ready for use, as soon as practical upon landing at the campsite to be occupied.

4. Leaving, depositing, or scattering human waste, toilet paper, or items used as toilet paper anywhere except in an approved portable toilet or developed toilet facility.

5. Where a developed toilet facility is not provided and an approved portable toilet is not required, and the situation makes it impractical to use an approved portable toilet, failing to bury all human waste and toilet paper, or material used as toilet paper, at least six inches below the surface of the ground in natural soil and at least fifty feet from the edge of the river or any other water source.

6. Burying or abandoning or burning refuse.

7. Failing to use developed toilet facilities provided at public recreation sites.

8. Emptying an approved portable toilet into a developed toilet facility, or any other facility not developed and identified especially for that purpose.

9. Disposing of refuse in other than refuse receptacles provided for that purpose.

10. Depositing non-biodegradable refuse in the vault of a developed toilet facility.

11. Depositing household, landscaping, commercial, or industrial refuse brought in as such from non-government property into government-provided refuse receptacles.

12. Allowing any refuse to drain from any vehicle or structure constructed for movement on highways except through a sealed connection and into a suitable container which prevents human contact with the contents.

13. Washing dishes or using soap in the river or any tributaries.

d. Firearms/Weapons

1. Discharging a firearm from the 3rd Saturday in May through August 31, except during authorized hunting seasons.

2. Discharging a firearm at any time within a developed area, or within 150 yards of a residence, building, developed recreation site, or occupied area.

3. Discharging a firearm at any time into or from within any area posted as a no shooting or safety zone.

4. Carrying, possessing, or discharging a firearm or other weapon in violation of Oregon State law.

e. Disorderly Conduct

1. With the intent to cause public alarm, nuisance, jeopardy, or violence, or knowingly or recklessly committing a risk thereof, committing any of the following acts:

i. Engaging in fighting, threatening, or violent behavior, or

ii. Using language, an utterance or gesture, or engaging in a display or act that is lewd or obscene, physically threatening, or menacing, or done in a manner likely to inflict injury or incite an immediate breach of the peace, or

iii. Making excessive noise, or

iv. Creating or maintaining a hazardous or physically offensive condition that causes personal or public alarm, nuisance, jeopardy or violence by possessing, using, or operating any water projectile device, including but not limited to hydro sticks, or water balloons/water balloon launchers, spud guns, air rifles, or

v. Using motorized/mechanized water cannons, or

vi. Creating excessive noise by voice, generators, amplified music, or any other means from 10 p.m. to 7 a.m., or

vii. Rolling any stone or other object that endangers or threatens the public, property, or wildlife.

f. Vehicles

1. Parking a vehicle in such a manner as to impede or obstruct the normal flow of traffic, or create a hazardous condition.

2. Failing to obey posted parking closures or restrictions.

3. Exceeding posted speed limits.

4. Traveling or parking off of designated roads, parking areas or launch sites.

5. Operating any motor vehicle in violation of any Oregon State law or regulation.

6. Operating any motor vehicle without a valid state driver's license and current vehicle registration.

7. Operating a vehicle with a seating capacity greater than 24 passengers (each seat to hold no more than 2 persons) and 1 driver and/or a total vehicle length greater than 28 feet.

8. Riding or allowing anyone to ride in or on top of a boat being carried by a motor vehicle. Exceptions: (1) A person(s) may ride within a single boat that is secured to the bed of a pickup truck by ropes or straps and the boat is contained within the pickup siderails; (2) A person(s) may also ride within a single boat which is likewise secured to the bed of a flatbed motor vehicle.

9. Operating any vehicle or combination of vehicles or load thereon which is wider than 8 feet 6 inches except as under a variance permit or other exemption as authorized by state law.

10. Riding or allowing anyone to ride on the exterior part of a motor vehicle.

11. Operating a vehicle or combination of vehicles when the overall height, including the load, is greater than 14 feet.

12. Operating a vehicle with a load which is unsecured, unsafe, or otherwise presents a hazard to the public.

g. Other Acts

1. Defacing, disturbing, removing, or destroying any personal property, or structures, or any scientific, cultural, archaeological, or historic resource, or natural object or thing.

2. Defacing, removing, or destroying plants or their parts, soil, rocks or minerals.

3. Abandoning property.

4. Leaving property unattended for longer than 24 hours.

5. Destroying, injuring, defacing, or damaging U.S. Government property.

6. Failing to exhibit required permits or identification when requested by a BLM authorized officer or representative.

7. Selling, offering for sale, or promoting any services or merchandise or conducting any kind of business enterprise on public land or waters without a BLM permit.

8. Failing to possess a BLM Special Recreation Permit for commercial use as defined in 43 CFR 8372.0-5.

9. Failing to restrain an animal on a leash not longer than 6 feet and secured to a fixed object or a person, or otherwise physically restricted at all times except when hunting.

10. Allowing a pet to make noise that is unreasonable considering location, time of day or night, impact on public land users, and other relevant factors or that frightens wildlife by barking, howling, or making other noise.

11. Failing to remove pet waste.

12. Leaving an animal unattended in an unsafe location or situation.

13. Operating an aircraft in violation of FAA rules and regulations.

14. Landing an aircraft without authorization when required.

15. Taking, attempting to take, or possessing any fish or wildlife in violation of any Oregon State law or regulation.

16. Participating in an unauthorized event or activity.

17. Allowing livestock to graze in any area or at any time when grazing is prohibited.

18. Violation by commercial permittee or their employee of any stipulations outlined in the Guidelines for Commercial Use of Rivers in the Prineville District.

19. Allowing a group to exceed the group size limit of 16 people in river segments 1, 3, and 4, and 24 people in segment 2.

h. Boating

1. Failing to possess a Deschutes River boater's pass as required by Oregon State Parks and Recreation Commission.

2. Operating any motor-driven boat in any area posted or designated as closed to such use.

3. Operating any boat or vessel in such manner as to create a hazardous or unsafe condition.

4. Operating any personal watercraft, including but not limited to jet skis, wet bikes, wave runners, and wet jets from Heritage Landing boat ramp upstream.

5. Operating a motor-driven boat with more than seven people, including the operator, on board.

6. Making more than two round trips per day in a motor-driven boat.

7. While operating a boat, stopping along or tying up to the riverbank, except in an emergency, within the Rattlesnake-Moody Rapids pass through zone. This zone extends from the upstream end of Rattlesnake Rapids at about river mile 2.5 to the no wake zone at the downstream end of Moody Rapids at about river mile .5.

8. Swimming or floating with or without a flotation device and/or using inner tubes, float tubes, boogie boards, surf boards, and other similar water toys used for the transport of persons or property in the Deschutes River channel in Moody Rapids on those days when power boats are allowed, except as provided below. This prohibition is in effect from the upstream end of Moody Rapids down river to the downstream side of Moody Rapids channel marker from legal sunrise to legal sunset when power boats are allowed by the Oregon State Marine Board. Anglers using float tubes may cross the Moody Rapids channel during these times provided they do so in the most direct route possible. Float tube anglers crossing the Moody Rapids channel shall look out for and give right of way to any motorized boat, which is in Moody Rapids channel or about to enter the rapids from downstream or upstream, or in any event when motorboats are approaching close enough to create a hazard.

9. Exceeding Oregon State noise standards for motorboats.

10. Violating any Oregon State Marine Board Regulation.

11. Failing to complete boater registration when requested to do so by agency personnel.

12. Launching or taking out watercraft in an area designated as closed to this activity.

13. Securing any person(s), inner tube, float tube, boogie board, surf board, or other similar water toys used for transport of persons or property, or in or on the waters of the Deschutes River, to the river bank or to any tree, fixed object, or anchoring device on lands adjacent to the river bank or to any such object or device within the boundaries of the river and river banks of the Deschutes River by any cable, rope, line, bungee cord, or other means except to secure boats to the river bank as a normal and recognized necessity. No person shall hold on to any such line or to any device secured to such line in order to ride or be transported into any channel of the Deschutes River.

14. Securing any cable, rope, line, or bungee cord or any device across the river except as necessary for rescue and/or salvage operations and other necessary uses upon consent of the managing agencies of the Confederated Tribes of the Warm Springs, Oregon Parks and Recreation Department, Bureau of Land Management, and Oregon State Police. Exception: the cables presently in place across the Deschutes River at Dant, the upstream area (approximately river mile 52) of the City of Maupin, and the flow station cable car crossing upstream from Deschutes State Park are exempt from these special rules.

i. Alcoholic Beverages and Controlled Substances

1. Violating any prohibitions relating to liquor as found in the Oregon Criminal Code, Title 37, Chapter 471.

2. Committing any open container violation as found in the Oregon Vehicle Code 811.170.

3. No person under the influence of intoxicating liquor or controlled substance shall operate, propel, or be in actual physical control of a boat upon the water. Not less than .08 percent by weight of alcohol in a person's blood constitutes being under the influence of intoxicating liquor.

4. No owner of a boat or person in charge or in control of a boat shall authorize or knowingly permit a boat to be propelled or operated upon the water by any person who is under the influence of intoxicating liquor or a controlled substance.

5. Operating or being in actual physical control of a motor vehicle is prohibited while the operator:

i. Is under the influence of alcohol, or a drug, or drugs, or inhalant, or any combination thereof, to a degree that renders the operator incapable of safe operation; or

ii. Has .08 percent or more by weight of alcohol in the blood of the operator.

6. The provisions in paragraphs (i)(3), (i)(5)(i), and (i)(5)(ii) above also apply to an operator who is or has been legally entitled to use alcohol or another drug.

7. Cultivating, manufacturing, delivering, or trafficking a controlled substance, as defined in 21 U.S.C. 802(6) and 812 and 21 CFR 1308.11-1308.15, except when distribution is made by a licensed practitioner in accordance with applicable law. For the purposes of this paragraph, delivery means the actual, attempted or constructive transfer of a controlled substance whether or not there exists an agency relationship; or

8. Possessing a controlled substance, as defined in 21 U.S.C. 802(6) and 812 and 21 CFR 1308.11-1308.15, unless such substance was obtained, either directly or pursuant to a valid prescription or order of as otherwise allowed by Federal or State law, by the possessor from a licensed practitioner acting in the course of professional practice.

j. Interfering With Agency Functions

1. Threatening, resisting, intimidating, or intentionally interfering with a government employee volunteer, or agent engaged in an official duty, or on account of the performance of an official duty.

2. Violating the lawful order of a government employee or agent authorized to maintain order and control public access and movement during fire fighting operations, search and rescue operations, wildlife management operations involving animals which pose a threat to public safety, law enforcement actions, and emergency operations that involve a threat to public safety or public land resources, or other activities where the control of public movement and activities is necessary to maintain order and public safety.

3. Knowingly giving a false or fictitious report or other false information:

i. To an authorized person investigating an accident or violation of law or regulation, or

ii. On application for a permit.

4. Knowingly giving a false report for the purposes of misleading a government employee or agent in the conduct of official duties, or making a false report that causes a response by the United States to a fictitious event.

Sec. 3. Penalties

On public lands, under 43 CFR 8351.2-1, any person who violates any of these special rules may be tried before a United States Magistrate and fined up to $500 or imprisoned for up to 6 months, or both. Such violations may also be subject to the enhanced fines provided for by 18 U.S.C. 3571.

Marci L. Todd,
Acting District Manager, Prineville District.

[FR Doc. 04-6994 Filed 3-29-04; 8:45 am]

BILLING CODE 4310-33-P